DEPARTMENT OF COMMERCE

Foreign-Trade Zones Board

[S-221-2020]

Foreign-Trade Zone 221—Mesa, Arizona; Application for Subzone; CMC Steel Fabricators, Inc., d/b/a CMC Steel Arizona, Mesa, Arizona

An application has been submitted to the Foreign-Trade Zones (FTZ) Board by the City of Mesa, grantee of FTZ 221, requesting subzone status for the facility of CMC Steel Fabricators, Inc., d/b/a CMC Steel Arizona, located in Mesa, Arizona. The application was submitted pursuant to the provisions of the Foreign-Trade Zones Act, as amended (19 U.S.C. 81a-81u), and the regulations of the FTZ Board (15 CFR part 400). It was formally docketed on December 10, 2020.

The proposed subzone (225.8 acres) is located at 11444 East Germann Rd., Mesa, Maricopa County. No authorization for production activity has been requested at this time. The proposed subzone would be subject to the existing activation limit of FTZ 221.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is January 25, 2021. Rebuttal comments in response to material submitted during the foregoing period may be submitted during the subsequent 15-day period to February 9, 2021.

A copy of the application will be available for public inspection in the “Reading Room” section of the FTZ Board's website, which is accessible via www.trade.gov/ftz.

For further information, contact Qahira El-Amin at Qahira.El-Amin@trade.gov.

Dated: December 11, 2020.
Andrew McGilvray,
Executive Secretary.

[FR Doc. 2020-27649 Filed 12-15-20; 8:45 am]

BILLING CODE 3510-DS-P